DEPARTMENT OF HEALTH AND HUMAN SERVICES

National Institutes of Health

National Cancer Institute; Amended Notice of Meeting

Notice is hereby given of a change in the meeting of the National Cancer Advisory Board, September 7, 2010, 8:30 a.m. to September 8, 2010, 12 p.m., National Institutes of Health, Building 31, 31 Center Drive, Bethesda, MD 20892, which was published in the Federal Register on July 22, 2010, 75 FR42758.

This amendment has been processed to change the start and end times of the NCAB meeting. The meeting will now start at 4 p.m. and end at 5:45 p.m. on September 7, 2010. On September 8, 2010, the closed session will be held from 8:30 a.m. to 10 a.m. The open session will start at 10:15 a.m. and end at 5 p.m.

Dated: August 4, 2010.
Anna Snouffer,
Deputy Director, Office of Federal Advisory Committee Policy.

[FR Doc. 2010-19681 Filed 8-9-10; 8:45 am]

BILLING CODE 4140-01-P